DEPARTMENT OF HEALTH AND HUMAN SERVICES

National Institutes of Health

The National Institutes of Health (NIH) Sexual & Gender Minority Research Office Request for Letters of Intent and Nominations for SGM Investigator Awards Program

AGENCY: National Institutes of Health, HHS.

ACTION: Notice; call for Letters of Intent.

SUMMARY: The National Institutes of Health (NIH) Sexual & Gender Minority Research Office (SGMRO) is requesting letters of intent for the second annual Investigator Awards Program. The NIH Sexual and Gender Minority (SGM) Investigator Awards Program was developed to recognize early-stage investigators who have made substantial, outstanding research contributions in areas related to SGM health and who are poised to become future leaders or are already leading the field of SGM health research. The NIH SGMRO is currently soliciting nominations for the 2019 NIH SGM Investigator Awards. The NIH SGMRO will make two non-monetary awards this year.

DATES: Letters of intent to apply due May 20, 2019 and final nomination submissions due June 10, 2019.

FOR FURTHER INFORMATION CONTACT: Karen Parker, Ph.D., MSW, Director, Sexual & Gender Minority Research Office (SGMRO), 6011 Executive Boulevard, Suite 206, Rockville, MD 20852, klparker@mail.nih.gov, 301-451-2055.

SUPPLEMENTARY INFORMATION: “Sexual and gender minority” is an umbrella term that encompasses lesbian, gay, bisexual, and transgender populations as well as those whose sexual orientation, gender identity and expressions, or reproductive development varies from traditional, societal, cultural, or physiological norms.

The Sexual and Gender Minority Research Office (SGMRO) coordinates sexual and gender minority (SGM)-related research and activities by working directly with the NIH Institutes, Centers, and Offices. The Office was officially established in September 2015 within the NIH Division of Program Coordination, Planning, and Strategic Initiatives (DPCPSI) in the Office of the Director.

The SGMRO has the following research-related goals: (1) Expand the knowledge base of SGM health and well-being through NIH-supported research; (2) Remove barriers to planning, conducting, and reporting NIH-supported research about SGM health and well-being; (3) Strengthen the community of researchers and scholars who conduct research relevant to SGM health and well-being; and (4) Evaluate progress on advancing SGM research.

2019 Award Details

Two non-monetary awards of recognition will be offered to early stage investigators who demonstrate both contemporary achievement in and a commitment to an area of SGM-related health research. The awardees will be invited, with all travel expenses covered (limited to reimbursement based on Federal Travel Regulations and HHS and NIH guidance), to give a lecture at the NIH in September 2019. This event will be webcast live and the presentations will be archived and available for future viewing.

Eligibility Criteria

The following individuals are not eligible to be nominated: Federal employees and interns/fellows; federal contractors; members of the NIH SGM Research Working Group, and previous NIH SGM Investigator awardees.

• At the time of the nomination due date, June 10, the candidate must meet the NIH's definitions of an early stage investigator (ESI) (https://grants.nih.gov/grants/guide/notice-files/NOT-OD-17-101.html).

Letters of Intent

A Letter of Intent (LOI) to submit a nomination is required (nominees may self-nominate and submit their own LOIs). The LOI should be a 1-page, single-spaced Word or PDF document and include:

1. Nominee's name, title, affiliation, and date of terminal degree.

2. eRA Commons ID.

a. Before submitting the LOI, researchers should confirm ESI status is correctly marked in their eRA Commons (https://era.nih.gov/) profile. If the status is incorrect, please contact the NIH eRA Service Desk (https://grants.nih.gov/support/index.html) to resolve the issue before submitting an LOI.

3. SGM research focus of nominee's work.

Attach the LOI (as a Word or PDF document) to an email and send it to sgmhealthresearch@od.nih.gov with the subject line “2019 SGM Investigator Award Letter of Intent” no later than 11:59 p.m. local time on May 20, 2019.

Nominations

Nomination packages may be submitted by the nominee or a nominee's mentor or colleague. Nomination packages must be a single PDF file that includes:

1. CV and NIH Biosketch including a link (URL) to the nominee's My Bibliography in PubMed.

a. If you do not have a My Bibliography in PubMed, refer to these simple step-by-step instructions to save your citations in PubMed to a “My Bibliography.”

b. Use the URL that PubMed automatically generates when you change your “My Bibliography” sharing setting to public.

2. Letter of nomination (1,000 words or less) from a mentor or colleague familiar with the nominee's work, addressing the nominee's innovative contribution to the field of SGM health research, crosscutting and collaborative nature of that research, trajectory of career development, and leadership strengths. The strongest letters will demonstrate the lasting significance and impact of the nominee's work to date.

3. Two letters of endorsement from other mentors or colleagues. Letters of endorsement may be less encompassing than the letter of nomination, but should address similar themes.

4. A PDF of a key, peer-reviewed article published in the past 24-month period, which is first-authored by the nominee. If in press, please provide the accepted paper and the letter of acceptance from the journal.

After compiling all the above elements into a single PDF file, attach the PDF to an email, and send it to sgmhealthresearch@od.nih.gov with the subject line header “2019 NIH SGM Investigator Award Nomination” no later than 11:59 p.m. local time on June 10, 2019.

Review and Selection Process

• Stage 1: The SGMRO will assemble a review panel composed of NIH staff with relevant expertise. This panel will provide recommendations for two awardees to the SGMRO Director and the DPCPSI Director.

• Stage 2: The SGMRO and DPCPSI Directors will review the recommendations and select the final two awardees.

Dated: April 16, 2019.
Lawrence A. Tabak,
Deputy Director, National Institutes of Health.

[FR Doc. 2019-08065 Filed 4-19-19; 8:45 am]

BILLING CODE 4140-01-P